DEPARTMENT OF HEALTH AND HUMAN SERVICES

Centers for Disease Control and Prevention

[30-Day 13-13DB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Emerging Infections Program—New—National Center for Emerging and Zoonotic Infectious Diseases (NCEZID), Centers for Disease Control and Prevention (CDC).

Background and Brief Description

The Emerging Infections Programs (EIPs) are population-based centers of excellence established through a network of state health departments collaborating with academic institutions; local health departments; public health and clinical laboratories; infection control professionals; and healthcare providers. EIPs assist in local, state, and national efforts to prevent, control, and monitor the public health impact of infectious diseases. Various parts of the EIP have received separate OMB clearance (OMB Control No. 0920-0802, ABCs, and OMB Control No. 0920-0852, All Age Influenza Hospitalization Surveillance); however this request seeks to have these core EIP activities under one clearance.

Activities of the EIPs fall into the following general categories: (1) Active surveillance; (2) applied public health epidemiologic and laboratory activities; (3) implementation and evaluation of pilot prevention/intervention projects; and (4) flexible response to public health emergencies. Activities of the EIPs are designed to: (1) Address issues that the EIP network is particularly suited to investigate; (2) maintain sufficient flexibility for emergency response and new problems as they arise; (3) develop and evaluate public health interventions to inform public health policy and treatment guidelines; (4) incorporate training as a key function; and (5) prioritize projects that lead directly to the prevention of disease.

The total estimated burden is 12,319 hours. There is no cost to respondents other than their time.

Estimated Annualized Burden Hours
Type of respondent | Form name | Number of respondents | Number of responses per respondent | Average burden per response (in hours)
State Health Department | ABCs Case Report Form | 10 | 809 | 20/60
| Invasive Methicillin-resistant Staphylococcus aureus ABCs Case Report Form | 10 | 609 | 20/60
| ABCs Invasive Pneumococcal Disease in Children Case Report Form | 10 | 41 | 10/60
| Neonatal Infection Expanded Tracking Form | 10 | 37 | 20/60
| ABCs Legionellosis Case Report Form | 10 | 100 | 20/60
| Campylobacter | 10 | 637 | 20/60
| Cryptosporidium | 10 | 130 | 10/60
| Cyclospora | 10 | 3 | 10/60
| Listeria monocytogenes | 10 | 13 | 20/60
| Salmonella | 10 | 827 | 20/60
| Shiga toxin producing E. coli | 10 | 90 | 20/60
| Shigella | 10 | 178 | 10/60
| Vibrio | 10 | 20 | 10/60
| Yersinia | 10 | 16 | 10/60
| Hemolytic Uremic Syndrome | 10 | 10 | 60/60
| Influenza Hospitalization Surveillance Project Case Report Form | 10 | 400 | 15/60
| Influenza Hospitalization Surveillance Project Vaccination Telephone Survey | 10 | 100 | 5/60
| Influenza Hospitalization Surveillance Project Vaccination Telephone Survey Consent Form | 10 | 100 | 5/60

Leroy A. Richardson,
Chief, Information Collection Review Office, Office of Scientific Integrity, Office of the Associate Director for Science, Office of the Director, Centers for Disease Control and Prevention.

[FR Doc. 2013-15895 Filed 7-2-13; 8:45 am]

BILLING CODE 4163-18-P